FEDERAL COMMUNICATIONS COMMISSION

Notice of Public Information Collection(s) being Submitted to OMB for Review and Approval

December 16, 2004.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before January 28, 2005. If you anticipate that you will be submitting comments, but find it difficult to do so within the period of time allowed by this notice, you should advise the contact listed below as soon as possible.

ADDRESSES: Direct all comments to Cathy Williams, Federal Communications Commission, Room 1-C823, 445 12th Street, SW., Washington, DC 20554 or via the Internet to Cathy.Williams@fcc.gov or Kristy L. LaLonde, Office of Management and Budget (OMB), Room 10236 NEOB, Washington, DC 20503, (202) 395-3087 or via the Internet at Kristy_L._LaLonde@omb.eop.gov.

FOR FURTHER INFORMATION CONTACT: For additional information or copy of the information collection(s) contact Cathy Williams at (202) 418-2918 or via the Internet at Cathy.Williams@fcc.gov.

SUPPLEMENTARY INFORMATION: OMB Control Number: 3060-0595.

Title: Updating Maximum Permitted Rates for Regulated Services and Equipment.

Form Number: FCC Form 1210.

Type of Review: Extension of a currently approved collection.

Respondents: Business or other for-profit entities; State, Local or Tribal Government.

Number of Respondents: 3,900.

Estimated Time per Response: 2-15 hours.

Frequency of Response: On occasion reporting requirement; Third party disclosure requirement.

Total Annual Burden: 36,000 hours.

Total Annual Cost: $1,500,000.

Privacy Impact Assessment: No impact(s).

Needs and Uses: Section 623 of the Cable Television Consumer Protection and Competition Act of 1992 requires the Commission to prescribe rules and regulations for determining reasonable rates for basic tier cable service and to establish criteria for identifying unreasonable rates for cable programming services and associated equipment. To implement its scheme of rate regulation, the Commission developed a series of rate regulation forms, including FCC Form 1210, Updating Maximum Permitted Rates for Regulated Services and Equipment.

Cable operators use FCC Form 1210 to file for adjustments in maximum permitted rates for regulated services to reflect external costs. Regulated cable operators submit this form to local franchising authorities or the Commission (in situations where the FCC has assumed jurisdiction). In addition, cable operators use FCC Form 1210 to file a response to a complaint filed with the Commission concerning cable programming service rates and associated equipment.

On June 19, 2002, the Commission released a Notice of Proposed Rulemaking (“NPRM”), MB Docket No. 02-144, FCC 02-177, initiated to reflect the March 31, 1999 sunset of Commission jurisdiction to regulate rates for cable programming services (“CPS”) enacted by the Telecommunications Act of 1996 (“1996 Act”'), 47 U.S.C. 543(c)(4).

Since the released of the NPRM in June 2002 as cited above, the Commission has taken no further action.

Federal Communications Commission.
Marlene H. Dortch,
Secretary.

[FR Doc. 04-28528 Filed 12-28-04; 8:45 am]

BILLING CODE 6712-01-P